DEPARTMENT OF THE INTERIOR

Bureau of Land Management

[UT-910-00-0777-XQ]

Utah Resource Advisory Council Meeting

AGENCY: Bureau of Land Management, Interior.

ACTION: Utah Resource Advisory Council Meeting.

SUMMARY: The Bureau of Land Management's Utah Statewide Resource Advisory Council (RAC) will be meeting on May 4, 2000, Provo, Utah.

The purpose of this meeting is to continue developing guidelines for recreation management on BLM lands in Utah.

The meeting will be held at the Hampton Inn (Sundance Room), 1511 South 40 East, Provo, Utah. It is scheduled to begin at 8 a.m. and conclude at 4 p.m. A public comment period, where members of the public may address the Council, is scheduled from 3:30 p.m.-4 p.m. on May 4. All meetings of the BLM's Resource Advisory Council are open to the public.

FOR FURTHER INFORMATION: Sherry Foot, Special Programs Coordinator, Utah State Office, Bureau of Land Management, 324 South State Street, Salt Lake City, 84111; phone (801) 539-4195.

Dated: March 29, 2000.
Robert A. Bennett,
Utah BLM Associate State Director.

[FR Doc. 00-8210 Filed 4-3-00; 8:45 am]

BILLING CODE 4310-DQ-M